ENVIRONMENTAL PROTECTION AGENCY

40 CFR Part 52

[EPA-R10-OAR-2025-0009; FRL-12550-01-R10]

Air Plan Approval; Idaho; Update to Materials Incorporated by Reference

AGENCY: Environmental Protection Agency (EPA).

ACTION: Final rule; administrative change.

SUMMARY: The Environmental Protection Agency (EPA) is updating the regulatory materials that are incorporated by reference into the Idaho State Implementation Plan (SIP). The EPA is also notifying the public of corrections and clarifying changes in the Code of Federal Regulations tables that identify the regulatory materials incorporated by reference into the Idaho SIP. This update affects the materials that are available for public inspection at the National Archives and Records Administration and the EPA Region 10 Office.

DATES: This action is effective June 27, 2025.

ADDRESSES: The Idaho SIP materials incorporated by reference into 40 CFR part 52 are available for inspection at the following locations: Environmental Protection Agency, Region 10, 1200 Sixth Avenue, Suite 155, Seattle, WA 98101; and www.regulations.gov. To view the materials at the Region 10 Office, the EPA requests that you email the contact listed in the FOR FURTHER INFORMATION CONTACT section to schedule your inspection. The Region 10 Office's official hours of business are Monday through Friday 8:30 a.m. to 4:30 p.m., excluding Federal holidays.

FOR FURTHER INFORMATION CONTACT: Kristin Hall, EPA Region 10, 1200 Sixth Avenue—Suite 155, Seattle, WA 98101, at (206) 553-6357, or hall.kristin@epa.gov.

SUPPLEMENTARY INFORMATION:

I. Background

Each State has a SIP containing the control measures and strategies used to attain and maintain the national ambient air quality standards (NAAQS). The SIP is extensive, including such elements as air pollution control regulations, source-specific permit requirements, emission inventories, monitoring networks, attainment demonstrations, and enforcement mechanisms.

Each State must formally adopt air pollution control measures and strategies and submit the associated regulatory materials to the EPA for approval into the SIP. Upon EPA approval, regulatory materials are incorporated into the federally approved SIP in title 40 of part 52, “Approval and Promulgation of Implementation Plans,” of the Code of Federal Regulations (40 CFR part 52). The full text of a State regulation approved by the EPA is not reproduced in its entirety in 40 CFR part 52, rather, it is “incorporated by reference (IBR).” This means that the EPA has approved a given State regulation, or changes to that regulation, based on a specific effective date. The public is referred to the location of the full text version of the regulation. The information provided allows the EPA and the public to monitor the extent to which a State implements a SIP to attain and maintain the NAAQS and to take enforcement action for violations of the SIP.

Each SIP is a living document revised as necessary by a State to address Clean Air Act requirements and the unique air pollution problems in the State. Therefore, the EPA must routinely take action on SIP revisions that include new or revised State regulatory materials. A State may revise one or more regulations in their entirety, or portions of regulations. The State indicates the submitted changes by using redline/strikethrough text, for example, and the EPA takes action on the changes. The EPA establishes a docket for each action using a unique Docket Identification Number and places the submitted regulations and other materials supporting the action in the docket. Dockets are available for viewing on www.regulations.gov.

On May 22, 1997 (62 FR 27968), the EPA, in coordination with the Office of the Federal Register, revised the procedures used to incorporate State regulatory materials by reference into the CFR for each SIP. These changes revised the format for the identification of the SIP in 40 CFR part 52, streamlined the mechanism for announcing EPA approval of revisions to a SIP, and consolidated the process for EPA updates to the IBR materials in 40 CFR part 52. The revised IBR procedures called for the EPA to maintain “SIP Compilations” with the full text of the federally approved State regulatory materials.

The EPA generally updates each SIP Compilation every few years, or more frequently when large amounts of regulatory materials have been incorporated by reference. Under the revised procedures, the EPA must periodically publish an informational document in the rules section of the Federal Register notifying the public that updates have been made to a specific SIP Compilation. The EPA began applying the revised IBR procedures to the Idaho SIP on January 25, 2005 (70 FR 3479) and subsequently published updates to the IBR materials in the Idaho SIP on December 28, 2012 (77 FR 76417), April 1, 2015 (80 FR 17333), July 24, 2020 (85 FR 44741), and November 18, 2024 (89 FR 90592).

A. Approved and Incorporated by Reference Regulatory Materials

Since the last update of IBR materials in the Idaho SIP at 40 CFR 52.670(c), the EPA has approved and incorporated by reference specific revised sections of the Rules for the Control of Air Pollution in Idaho (IDAPA 58.01.01) as described in the following paragraphs of this preamble.

1. Action on December 5, 2024 (89 FR 96554) (listed provisions are State effective March 28, 2023, unless otherwise specified):

• IDAPA 58.01.01.001 Title and scope (describing the title and general scope);

• IDAPA 58.01.01.005 Definitions (referencing the terms defined in State statute and Federal regulations to be used in the Idaho air quality regulations);

• IDAPA 58.01.01.006 General definitions (defining centralized terms used in the Idaho air quality regulations), except 006.23, 006.24, 006.25, 006.30, 006.31.b, 006.49, 006.50 and 006.51;

• IDAPA 58.01.01.007 Definitions for the purposes of sections 200 through 228 and 400 through 461 (defining centralized terms used in the major and minor source permitting programs);

• IDAPA 58.01.01.107 Incorporations by reference (listing the codes, rules and standards incorporated by reference into the Idaho air quality regulations), State effective July 1, 2014, except 107.06 through 107.16, which are not incorporated into the SIP;

• IDAPA 58.01.01.108 Obligation to comply (requiring that receiving a permit or certificate of registration does not relieve the owner or operation of the obligation to comply with all applicable regulations);

• IDAPA 58.01.01.121 Compliance requirements by department (detailing actions to ensure compliance with the air quality rules);

• IDAPA 58.01.01.122 Information orders by the department (establishing how information may be obtained in implementing the air quality rules);

• IDAPA 58.01.01.123 Certification of documents (requiring documents submitted to be certified as true, accurate and complete);

• IDAPA 58.01.01.125 False statements (prohibiting false statements, representation, or certification);

• IDAPA 58.01.01.126 Tampering (prohibiting interference with monitoring device, method, rule or order);

• IDAPA 58.01.01.130 Startup, shutdown, scheduled maintenance, safety measures, upset and breakdown (defining startup, shutdown, upset and scheduled maintenance), State effective July 1, 2024;

• IDAPA 58.01.01.131 Excess emissions (establishing enforcement discretion criteria in the event of excess emissions);

• IDAPA 58.01.01.132 Correction of condition (requiring appropriate action to correct conditions causing an excess emissions event);

• IDAPA 58.01.01.133 Startup, shutdown and scheduled maintenance requirements (prescribing notifications, recordkeeping, reporting and other actions related to modes of operation);

• IDAPA 58.01.01.134 Upset, breakdown and safety requirements (identifying safety requirements and measures to minimize excess emissions during upsets);

• IDAPA 58.01.01.135 Excess emissions reports (detailing required data to be reported about excess emissions events);

• IDAPA 58.01.01.136 Excess emissions records (requiring records retention related to excess emissions);

• IDAPA 58.01.01.155 Circumvention (prohibiting the concealment of emissions);

• IDAPA 58.01.01.157 Test methods and procedures (establishing procedures for source test methods);

• IDAPA 58.01.01.164 Polychlorinated biphenyls (PCBs) (prohibiting the burning or selling of PCBs);

• IDAPA 58.01.01.175 Procedures and requirements for permits establishing a facility emissions cap (setting uniform procedures for a source to seek a facility emissions cap);

• IDAPA 58.01.01.176 Facility emissions cap, except provisions relating to hazardous air pollutants (establishing applicability and definitions for facility emissions cap requirements);

• IDAPA 58.01.01.178 Standard contents of permits establishing a facility emissions cap (listing the required contents of a permit establishing a facility emissions cap);

• IDAPA 58.01.01.179 Procedures for issuing permits establishing a facility emissions cap (identifying the procedures to be followed in issuing a facility emissions cap);

• IDAPA 58.01.01.180 Revisions to permits establishing a facility emissions cap (requiring changes to permit terms and conditions under certain circumstances);

• IDAPA 58.01.01.181 Notice and record-keeping of estimates of ambient concentrations (prescribing the process to make allowable changes to a facility emissions cap);

• IDAPA 58.01.01.200 Procedures and requirements for permits to construct (establishing uniform procedures for issuing permits to construct);

• IDAPA 58.01.01.201 Permit to construct required (requiring owners and operators of certain facilities to obtain permits to construct unless otherwise covered by a general permit or permit by rule);

• IDAPA 58.01.01.202 Application procedures (requiring a certified application using approved forms when applying for a permit to construct);

• IDAPA 58.01.01.203 Permit requirements for new and modified stationary sources, except 203.03 (stating that no permit will be issued unless a source complies with applicable emission limits and does not cause or contribute to a violation of an ambient air quality standard);

• IDAPA 58.01.01.204 Permit requirements for new major facilities or major modifications in nonattainment areas (requiring LAER and offsets for new major facilities and major modifications in nonattainment areas);

• IDAPA 58.01.01.205 Permit requirements for new major facilities or major modifications in attainment or unclassifiable areas (requiring new major facilities and major modifications meet certain requirements to construct in attainment areas);

• IDAPA 58.01.01.206 Optional offsets for permits to construct (offering the option to offset emissions using credits);

• IDAPA 58.01.01.208 Demonstration of net air quality benefit (establishing how to demonstrate net air quality benefit for emissions trades);

• IDAPA 58.01.01.209 Procedure for issuing permits (laying out application, public process and approval procedures for issuing permits);

• IDAPA 58.01.01.211 Conditions for permits to construct (conditioning permits to include monitoring, performance testing, cancellation);

• IDAPA 58.01.01.212 Relaxation of standards or restrictions (spelling out major preconstruction permitting requirements when a limit has been relaxed);

• IDAPA 58.01.01.213 Pre-permit construction (specifying when certain minor sources may request to construct before obtaining the permit);

• IDAPA 58.01.01.220 General exemption criteria for permit to construct exemptions (detailing exemptions from the requirements to obtain a permit to construct);

• IDAPA 58.01.01.221 Category I exemption (specifying exemptions for sources below regulatory concern);

• IDAPA 58.01.01.222 Category II exemption (detailing exemptions for sources such as laboratory equipment, pilot plants, mobile engines, retail gasoline facilities, etc.);

• IDAPA 58.01.01.226 Payment of fees for permits to construct (requiring application and processing fee payment for permits to construct);

• IDAPA 58.01.01.227 Receipt and usage of fees (requiring received fees to be used to administer the permit to construct and Tier II operating permit programs)

• IDAPA 58.01.01.400 Procedures and requirements for Tier II operating permits (stating the purpose of the Tier II operating permit rules);

• IDAPA 58.01.01.401 Tier II operating permit, except 401.01.a and 401.04 (laying out optional and required Tier II operating permits);

• IDAPA 58.01.01.402 Application procedures (laying out how to apply for a Tier II operating permit);

• IDAPA 58.01.01.403 Permit requirements for Tier II sources (requiring that no permit be issued unless it would include all applicable emission limits and ambient air quality standards);

• IDAPA 58.01.01.404 Procedure for issuing permits (general procedures for issuing Tier II permits);

• IDAPA 58.01.01.405 Conditions for Tier II operating permits (laying out permit terms, performance test requirements, and other conditions);

• IDAPA 58.01.01.460 Requirements for emission reduction credit (establishing the conditions that constitute a creditable emission reduction);

• IDAPA 58.01.01.461 Requirements for banking emission reduction credits (ERC's) (setting out how emission reduction credits may be banked);

• IDAPA 58.01.01.500 Registration procedures and requirements for portable equipment (requiring all portable equipment to be registered);

• IDAPA 58.01.01.510 Stack heights and dispersion techniques (establishing criteria for good engineering practice related to stack heights and dispersion techniques);

• IDAPA 58.01.01.511 Requirements (providing that the required degree of emission control must not be affected by the amount of stack height that exceeds good engineering practices);

• IDAPA 58.01.01.512 Opportunity for public hearing (providing an opportunity for a public hearing where a stack height would exceed good engineering practices);

• IDAPA 58.01.01.513 Approval of field studies and fluid models (requiring approval of field studies and fluid models by the EPA);

• IDAPA 58.01.01.514 No restriction on actual stack height (providing that these rules do not restrict actual stack height);

• IDAPA 58.01.01.550 Air quality episodes (defining requirements in the event of episodes of poor air quality);

• IDAPA 58.01.01.556 Criteria for declaring air quality episodes (identifying alert, warning and emergency episode stages);

• IDAPA 58.01.01.557 Requirements during air quality episodes (prescribing actions to be taken during air quality episode stages);

• IDAPA 58.01.01.558 Notification of air quality episode (defining what information will be provided to the public in the event of an air quality episode);

• IDAPA 58.01.01.562 Specific air quality episode abatement plans for stationary sources (requiring specific sources to adopt and implement their own abatement plans in the event of an air quality episode);

• IDAPA 58.01.01.579 Baselines for prevention of significant deterioration (establishing the baseline dates to be used in the PSD permitting program);

• IDAPA 58.01.01.580 Classification of prevention of significant deterioration areas (listing procedures for redesignating PSD areas);

• IDAPA 58.01.01.581 Prevention of significant deterioration (PSD) increments (establishing the allowable degree of deterioration for areas that have air quality better than the ambient standards);

• IDAPA 58.01.01.600 Rules for control of open burning (establishing rule to protect human health and the environment from air pollutants resulting from open burning);

• IDAPA 58.01.01.601 Fire permits, hazardous materials, and liability (stating that a person is not exempt from other laws and ordinances related to open burning);

• IDAPA 58.01.01.602 Nonpreemption of other jurisdiction (stating that these rules are not intended to interfere with the rights of other agencies to provide equal or more stringent open burning controls);

• IDAPA 58.01.01.603 General requirements (prescribing the general open burning restrictions);

• IDAPA 58.01.01.606 Categories of allowable burning (listing the categories of allowable open burning);

• IDAPA 58.01.01.607 Recreational and warming fires (describing the campfires, barbeques, ceremonial fires and small handwarming fires that are allowed);

• IDAPA 58.01.01.608 Weed control fires (describing the weed abatement fires that are allowed);

• IDAPA 58.01.01.609 Training fires (describing the fire and land management training fires that are allowed);

• IDAPA 58.01.01.611 Residential yard waste fires (describing the yard waste disposal fires that are allowed);

• IDAPA 58.01.01.612 Solid waste facility fires (describing when solid waste disposal fires may be allowed);

• IDAPA 58.01.01.613 Orchard fires (describing orchard clipping disposal fires that are allowed);

• IDAPA 58.01.01.614 Prescribed fires (describing the prescribed fire that may be allowed under certain conditions);

• IDAPA 58.01.01.615 Dangerous material fires (describing allowable fires ignited under the direction of a public or military fire chief to dispose of dangerous materials);

• IDAPA 58.01.01.616 Infectious waste burning (describing allowable infectious waste fires conducted under the direction of a public health officer);

• IDAPA 58.01.01.617 Crop residue disposal (establishing requirements for crop residue disposal fires);

• IDAPA 58.01.01.618 Permit by rule (requiring that no person may conduct an open burn of crop residue without the applicable permit by rule);

• IDAPA 58.01.01.619 Registration (establishing registration requirements for crop residue burn permit by rule);

• IDAPA 58.01.01.620 Burn fee (setting fee payment deadline for crop residue burns);

• IDAPA 58.01.01.621 Burn approval (establishing the criteria for crop residue burn approval);

• IDAPA 58.01.01.622 General provisions (listing the requirements for persons conducting crop residue burns);

• IDAPA 58.01.01.623 Public notification (indicating that the Idaho DEQ will notify the public of burn or no-burn days);

• IDAPA 58.01.01.624 Spot and baled crop residue burn and propane flaming requirements (detailing the requirements for spot burns, baled burns and propane flaming);

• IDAPA 58.01.01.625 Visible emissions (establishing opacity limits and test methods);

• IDAPA 58.01.01.650 Rules for control of fugitive dust (requiring that all reasonable precautions be taken to prevent fugitive dust);

• IDAPA 58.01.01.651 General rules (establishing general requirements to limit the generation of fugitive dust);

• IDAPA 58.01.01.665 Regional haze rules (addressing visibility impairment in mandatory Class I Federal areas);

• IDAPA 58.01.01.666 Reasonable Progress goals (establishing goals for reasonable progress toward natural visibility conditions);

• IDAPA 58.01.01.667 Long-term strategy for regional haze (establishing long-term strategy requirements);

• IDAPA 58.01.01.675 Fuel burning equipment—particulate matter (establishing particulate matter standards for fuel burning equipment);

• IDAPA 58.01.01.676 Standards for new sources (setting particulate limits for new fuel burning equipment);

• IDAPA 58.01.01.677 Standards for minor and existing sources (setting particulate limits for minor and existing fuel burning equipment);

• IDAPA 58.01.01.678 Combinations of fuels (addressing particulate limits when two or more types of fuel are burned concurrently);

• IDAPA 58.01.01.679 Averaging period (establishing the appropriate averaging period for determining particulate emissions from fuel burning equipment);

• IDAPA 58.01.01.680 Altitude correction (addressing how to correct standard conditions for the altitude of a source);

• IDAPA 58.01.01.681 Test methods and procedures (setting the appropriate test method for measuring fuel burning particulate emissions);

• IDAPA 58.01.01.700 Particulate matter—process weight limitations (establishing particulate matter emission limitations for process equipment);

• IDAPA 58.01.01.701 Particulate matter—new equipment process weight limitations (listing emission standards for new process equipment);

• IDAPA 58.01.01.702 Particulate matter—existing equipment process weight limitations (listing emission standards for existing process equipment);

• IDAPA 58.01.01.703 Particulate matter—other processes (establishing process weight limitations for equipment used to dehydrate sugar beet pulp or alfalfa);

• IDAPA 58.01.01.725 Rules for sulfur content of fuels (establishing limits on the sulfur content of fuels);

• IDAPA 58.01.01.791 General control requirements (prohibiting owners and operators of rock crushers from injuring human health, welfare, property and other requirements);

• IDAPA 58.01.01.793 Emissions standards for nonmetallic mineral processing plants not subject to 40 CFR part 60, subpart OOO (requiring compliance with emissions and opacity standards);

• IDAPA 58.01.01.794 Permit requirements, except 794.04 (setting rock crusher permit by rule eligibility);

• IDAPA 58.01.01.795 Permit by rule requirements (establishing rock crusher permit by rule requirements);

• IDAPA 58.01.01.796 Applicability (establishing permit by rule and permit applicability);

• IDAPA 58.01.01.797 Registration for permit by rule (identifying how to register for the rock crusher permit by rule);

• IDAPA 58.01.01.798 Electrical generators (listing the fuel and operation requirements for electrical generators used to provide power to rock crushers);

• IDAPA 58.01.01.799 Nonmetallic mineral processing plant fugitive dust best management practice (establishing best practices to limit fugitive dust);

• IDAPA 58.01.01.815 Rules for control of kraft pulp mills (establishing emission standards and reporting requirements for recovery furnaces at kraft pulp mills);

• IDAPA 58.01.01.818 Kraft pulp mill LVHC and HVLC gas venting notification and reporting (requiring excess emissions notification and reporting by subject sources); and

• Idaho Code 39.103 Definitions, State effective July 1, 2010, except (4), (5), (8), (9), (10), (12), (13), (14), (15), (16), (17), and (18), which are not incorporated into the SIP.

B. Regulatory Materials Removed From Incorporation by Reference

Since the last IBR update, the EPA removed the following regulations from incorporation by reference in the Idaho SIP at 40 CFR 52.670(c).

1. Action on December 5, 2024 (89 FR 96554):

• IDAPA 58.01.01.004 Catchlines (stating that catchlines are not to be used to interpret regulations), State effective May 1, 1994;

• IDAPA 58.01.01.011 Definitions for the purposes of sections 790 through 799, State effective March 15, 2002;

• IDAPA 58.01.01.106 Abbreviations (spelling out the abbreviations used in the Idaho air quality regulations), State effective May 1, 1994;

• IDAPA 58.01.01.124 Truth, accuracy and completeness of documents (requiring documents submitted to the state to be true, accurate and complete), State effective May 1, 1994;

• IDAPA 58.01.01.127 Format of responses (requiring documents to be submitted to meet state-specified formatting requirements), State effective May 1, 1994;

• IDAPA 58.01.01.160 Provisions governing specific activities and conditions (regarding toxic air pollutants and polychlorinated biphenyls), State effective April 5, 2000;

• IDAPA 58.01.01.162 Modifying physical conditions (addressing conditions that affect the dispersion of pollutants), State effective May 1, 1994;

• IDAPA 58.01.01.163 Source density (addressing situations where a number of sources are located in proximity to each other), State effective May 1, 1994;

• IDAPA 58.01.01.212 Obligation to comply (requiring compliance with all applicable local, State and Federal statutes, rules, and regulations), State effective May 1, 1994;

• IDAPA 58.01.01.406 Obligation to comply (requiring compliance with all applicable local, State and Federal statutes, rules, and regulations), State effective May 1, 1994;

• IDAPA 58.01.01.515 Approval of field studies and fluid models (requiring EPA approval of field studies and fluid models), State effective May 1, 1994;

• IDAPA 58.01.01.516 No restrictions on actual stack height (addressing actual stack height), State effective May 1, 1994;

• IDAPA 58.01.01.551 Episode criteria (listing air quality episode criteria), State effective May 1, 1994;

• IDAPA 58.01.01.552 Stages (defining air quality episode stages), State effective March 15, 2002;

• IDAPA 58.01.01.553 Effects of stages (addressing the effects of reaching episode stages), State effective March 15, 2002;

• IDAPA 58.01.01.559 Manner and frequency of notification (addressing the manner and frequency of episode announcements), State effective May 1, 1994;

• IDAPA 58.01.01.560 Notification to sources (requiring significant sources be notified), State effective April 11, 2006;

• IDAPA 58.01.01.561 General rules (establishing the general control requirements for each episode stage), State effective April 11, 2006;

• IDAPA 58.01.01.575 Air quality standards and area classification (establishing State ambient air quality standards), State effective April 11, 2006;

• IDAPA 58.01.01.576 General provisions for ambient air quality standards (addressing general standards), State effective May 1, 1994;

• IDAPA 58.01.01.578 Designation of attainment, unclassifiable, and nonattainment areas (listing steps for state designation of areas), State effective May 1, 1994;

• IDAPA 58.01.01.610 Industrial flares (addressing industrial flares as open burning), State effective March 21, 2003;

• IDAPA 58.01.01.626 General restrictions on visible emissions from wigwam burners (setting opacity limits for wigwam burners), State effective April 5, 2000;

• IDAPA 58.01.01.668 BART requirements for regional haze (outlining the process of establishing best available retrofit technology requirements for sources), State effective March 30, 2007;

• IDAPA 58.01.01.785 Rules for control of incinerators (establishing incinerator particulate matter limits), State effective May 1, 1994;

• IDAPA 58.01.01.786 Emission limits (limiting particulate matter emissions from incinerators), State effective April 5, 2000;

• IDAPA 58.01.01.787 Exceptions (exempting wigwam burners from incinerator emission limits), State effective March 23, 1998;

• IDAPA 58.01.01.805 Rules for control of hot mix asphalt plants (limiting particulate matter emissions from hot mix asphalt plants), State effective May 1, 1994;

• IDAPA 58.01.01.806 Emission limits (requiring compliance with the process weight rate limitations), State effective May 1, 1994;

• IDAPA 58.01.01.807 Multiple stacks (establishing that total emissions from all stacks are to be compared to the emission limit), State effective May 1, 1994; and

• IDAPA 58.01.01.808 Fugitive dust control (requiring fugitive dust control systems), State effective May 1, 1994.

C. Corrections and Clarifications to CFR Tables

The EPA is notifying the public of corrections and clarifications to the CFR tables that identify the IBR materials in the Idaho SIP. The EPA has made minor wording changes to the “Explanations” column of the tables for consistency. We have also removed the text from the “Explanations” column for entries “600” through “616” because the text referred to a prior EPA approval date of July 11, 2005 that was then removed in response to a court remand. Entries “600” through “616” have been revised and approved numerous times since 2005 and therefore the text referencing the prior July 11, 2005, EPA approval date is obsolete.

II. EPA Action

In this action, the EPA is notifying the public of an update to the regulatory materials incorporated by reference into the Idaho SIP and federally effective as of January 6, 2025. This update includes regulatory materials submitted by Idaho and approved by the EPA since the last IBR update. See 89 FR 90592 (November 18, 2024).

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved State programs, makes corrections and clarifying changes to the tables in the CFR, and makes ministerial changes to the prefatory heading to the tables in the CFR. Under section 553 of the APA, an agency may find good cause where procedures are “impracticable, unnecessary, or contrary to the public interest.” Public comment for this administrative action is “unnecessary” and “contrary to the public interest” since the codification (and corrections) only reflect existing law. Immediate notice of this action in the Federal Register benefits the public by providing the public notification of the updated Idaho SIP Compilation and notification of corrections to the Idaho “Identification of Plan” portion of the CFR. Further, pursuant to section 553(d)(3), making this action immediately effective benefits the public by immediately updating both the SIP Compilation and the CFR “Identification of plan” section (which includes table entry corrections and clarifications).

IV. Incorporation by Reference

In this document, The EPA is finalizing regulatory text that includes incorporation by reference. In accordance with requirements of 1 CFR 51.5, the EPA is finalizing the incorporation by reference of regulations promulgated by Idaho, previously approved by the EPA and federally effective before January 6, 2025 as described in section I. of this document. The EPA has made, and will continue to make, these materials generally available through www.regulations.gov and at the EPA Region 10 Office (please contact the person identified in the FOR FURTHER INFORMATION CONTACT section of this preamble for more information).

V. Statutory and Executive Order Reviews

Under the Clean Air Act (CAA), the Administrator is required to approve a SIP submission that complies with the provisions of the CAA and applicable Federal regulations. 42 U.S.C. 7410(k); 40 CFR 52.02(a). Thus, in reviewing SIP submissions, The EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have tribal implications and it will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA also believes that the provisions of section 307(b)(1) of the CAA pertaining to petitions for judicial review are not applicable to this action. This is because prior EPA rulemaking actions for each individual component of the Idaho SIP Compilation previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 20, 2025.
Emma Pokon,
Regional Administrator, Region 10.

For the reasons set forth in the preamble, the EPA is amending 40 CFR part 52 as follows:

PART 52—APPROVAL AND PROMULGATION OF IMPLEMENTATION PLANS

1. The authority citation for part 52 continues to read as follows:

Authority: 42 U.S.C. 7401 et seq.

Subpart N—Idaho

2. In § 52.670, paragraphs (b) through (e) are revised to read as follows:

§ 52.670 Identification of plan.

* * * * *

(b) Incorporation by reference. (1) Material listed in paragraphs (c) and (d) of this section with an EPA approval date prior to January 6, 2025, was approved for incorporation by reference by the Director of the Federal Register in accordance with 5 U.S.C. 552(a) and 1 CFR part 51. Material is incorporated as it exists on the date of the approval and notification of any change in the material will be published in the Federal Register. Entries in paragraphs (c) and (d) of this section with EPA approval dates after January 6, 2025, will be incorporated by reference in the next update to the SIP compilation.

(2) EPA Region 10 certifies that the rules/regulations provided by the EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 10 EPA Office at 1200 Sixth Avenue, Suite 155, Seattle, WA 98101. To obtain the material, please call (206) 553-6357. You may inspect the material with an EPA approval date prior to January 6, 2025, for Idaho at the National Archives and Records Administration (NARA). For information on the availability of this material at NARA email fedreg.legal@nara.gov or go to https://www.archives.gov/federal-register/cfr/ibr-locations.

(c) EPA approved laws and regulations.

Table 1 to Paragraph (c)—State Regulations
State citation | Title/subject | State effective date | EPA approval date | Explanations
Rules for the Control of Air Pollution in Idaho (IDAPA 58.01.01)
001 | Title and scope | 3/28/2023 | 12/5/2024, 89 FR 96554
005 | Definitions | 3/28/2023 | 12/5/2024, 89 FR 96554
006 | General definitions | 3/28/2023 | 12/5/2024, 89 FR 96554 | Except subsections 006.23, 006.24, 006.25, 006.30, 006.31.b, 006.49, 006.50, 006.51.
007 | Definitions for the purposes of sections 200 through 225 and 400 through 461 | 3/28/2023 | 12/5/2024, 89 FR 96554
107 | Incorporations by reference | 7/1/2024 | 12/5/2024, 89 FR 96554 | Except subsections 107.06 through 107.16.
108 | Obligation to comply | 3/28/2023 | 12/5/2024, 89 FR 96554
121 | Compliance requirements by department | 3/28/2023 | 12/5/2024, 89 FR 96554
122 | Information orders by the department | 3/28/2023 | 12/5/2024, 89 FR 96554
123 | Certification of documents | 3/28/2023 | 12/5/2024, 89 FR 96554
125 | False statements | 3/28/2023 | 12/5/2024, 89 FR 96554
126 | Tampering | 3/28/2023 | 12/5/2024, 89 FR 96554
130 | Startup, shutdown, scheduled maintenance, safety measures, upset and breakdown | 7/1/2024 | 12/5/2024, 89 FR 96554
131 | Excess emissions | 3/28/2023 | 12/5/2024, 89 FR 96554
132 | Correction of condition | 3/28/2023 | 12/5/2024, 89 FR 96554
133 | Startup, shutdown and scheduled maintenance requirements | 3/28/2023 | 12/5/2024, 89 FR 96554
134 | Upset, breakdown and safety requirements | 3/28/2023 | 12/5/2024, 89 FR 96554
135 | Excess emissions reports | 3/28/2023 | 12/5/2024, 89 FR 96554
136 | Excess emissions records | 3/28/2023 | 12/5/2024, 89 FR 96554
155 | Circumvention | 3/28/2023 | 12/5/2024, 89 FR 96554
156 | Total compliance | 5/1/1994 | 1/16/2003, 68 FR 2217
157 | Test methods and procedures | 3/28/2023 | 12/5/2024, 89 FR 96554
164 | Polychlorinated biphenyls (PCBs) | 3/28/2023 | 12/5/2024, 89 FR 96554
175 | Procedures and requirements for permits establishing a facility emissions cap | 3/28/2023 | 12/5/2024, 89 FR 96554
176 | Facility emissions cap | 3/28/2023 | 12/5/2024, 89 FR 96554 | Except for provisions relating to hazardous air pollutants.
177 | Application procedures | 4/11/2015 | 8/12/2016, 81 FR 53290
178 | Standard contents of permits establishing a facility emissions cap | 3/28/2023 | 12/5/2024, 89 FR 96554
179 | Procedures for issuing permits establishing a facility emissions cap | 3/28/2023 | 12/5/2024, 89 FR 96554
180 | Revisions to permits establishing a facility emissions cap | 3/28/2023 | 12/5/2024, 89 FR 96554
181 | Notice and record-keeping of estimates of ambient concentrations | 3/28/2023 | 12/5/2024, 89 FR 96554
200 | Procedures and requirements for permits to construct | 3/28/2023 | 12/5/2024, 89 FR 96554
201 | Permit to construct required | 3/28/2023 | 12/5/2024, 89 FR 96554
202 | Application procedures | 3/28/2023 | 12/5/2024, 89 FR 96554
203 | Permit requirements for new and modified stationary sources | 3/28/2023 | 12/5/2024, 89 FR 96554 | Except subsection 203.03.
204 | Permit requirements for new major facilities or major modifications in nonattainment areas | 3/28/2023 | 12/5/2024, 89 FR 96554
205 | Permit requirements for new major facilities or major modifications in attainment or unclassifiable areas | 3/28/2023 | 12/5/2024, 89 FR 96554
206 | Optional offsets for permits to construct | 3/28/2023 | 12/5/2024, 89 FR 96554
207 | Requirements for emission reduction credit | 5/1/1994 | 1/16/2003, 68 FR 2217
208 | Demonstration of net air quality benefit | 3/28/2023 | 12/5/2024, 89 FR 96554
209 | Procedure for issuing permits | 3/28/2023 | 12/5/2024, 89 FR 96554
211 | Conditions for permits to construct | 3/28/2023 | 12/5/2024, 89 FR 96554
212 | Relaxation of standards or restrictions | 3/28/2023 | 12/5/2024, 89 FR 96554
213 | Pre-permit construction | 3/28/2023 | 12/5/2024, 89 FR 96554
220 | General exemption criteria for permit to construct exemptions | 3/28/2023 | 12/5/2024, 89 FR 96554
221 | Category I exemption | 3/28/2023 | 12/5/2024, 89 FR 96554
222 | Category II exemption | 3/28/2023 | 12/5/2024, 89 FR 96554
226 | Payment of fees for permits to construct | 3/28/2023 | 12/5/2024, 89 FR 96554
227 | Receipt and usage of fees | 3/28/2023 | 12/5/2024, 89 FR 96554
400 | Procedures and requirements for Tier II operating permits | 3/28/2023 | 12/5/2024, 89 FR 96554
401 | Tier II operating permit | 3/28/2023 | 12/5/2024, 89 FR 96554 | Except subsections 401.01.a and 401.04.
402 | Application procedures | 3/28/2023 | 12/5/2024, 89 FR 96554
403 | Permit requirements for Tier II sources | 3/28/2023 | 12/5/2024, 89 FR 96554
404 | Procedure for issuing permits | 3/28/2023 | 12/5/2024, 89 FR 96554
405 | Conditions for Tier II operating permits | 3/28/2023 | 12/5/2024, 89 FR 96554
460 | Requirements for emission reduction credit | 3/28/2023 | 12/5/2024, 89 FR 96554
461 | Requirements for banking emission reduction credits (ERC's) | 3/28/2023 | 12/5/2024, 89 FR 96554
500 | Registration procedures and requirements for portable equipment | 3/28/2023 | 12/5/2024, 89 FR 96554
510 | Stack heights and dispersion techniques | 3/28/2023 | 12/5/2024, 89 FR 96554
511 | Requirements | 3/28/2023 | 12/5/2024, 89 FR 96554
512 | Opportunity for public hearing | 3/28/2023 | 12/5/2024, 89 FR 96554
513 | Approval of field studies and fluid models | 3/28/2023 | 12/5/2024, 89 FR 96554
514 | No restriction on actual stack height | 3/28/2023 | 12/5/2024, 89 FR 96554
550 | Air quality episodes | 3/28/2023 | 12/5/2024, 89 FR 96554
556 | Criteria for declaring air quality episodes | 3/28/2023 | 12/5/2024, 89 FR 96554
557 | Requirements during air quality episodes | 3/28/2023 | 12/5/2024, 89 FR 96554
558 | Notification of air quality episode | 3/28/2023 | 12/5/2024, 89 FR 96554
562 | Specific air quality episode abatement plans for stationary sources | 3/28/2023 | 12/5/2024, 89 FR 96554
563 | Transportation conformity | 3/30/2001 | 4/12/2001,66 FR 18873
564 | Incorporation by reference | 3/30/2001 | 4/12/2001, 66 FR 18873
565 | Abbreviations | 3/30/2001 | 4/12/2001, 66 FR 18873
566 | Definitions for the purpose of sections 563 through 574 and 582 | 3/30/2001 | 4/12/2001, 66 FR 18873
567 | Agencies affected by consultation | 3/30/2001 | 4/12/2001, 66 FR 18873
568 | ICC member roles in consultation | 3/30/2001 | 4/12/2001, 66 FR 18873
569 | ICC member responsibilities in consultation | 3/30/2001 | 4/12/2001, 66 FR 18873
570 | General consultation process | 3/30/2001 | 4/12/2001, 66 FR 18873
571 | Consultation procedures | 3/30/2001 | 4/12/2001, 66 FR 18873
572 | Final conformity determinations by USDOT | 3/30/2001 | 4/12/2001, 66 FR 18873
573 | Resolving conflicts | 3/30/2001 | 4/12/2001, 66 FR 18873
574 | Public consultation procedures | 3/30/2001 | 4/12/2001, 66 FR 18873
579 | Baselines for prevention of significant deterioration | 3/28/2023 | 12/5/2024, 89 FR 96554
580 | Classification of prevention of significant deterioration areas | 3/28/2023 | 12/5/2024, 89 FR 96554
581 | Prevention of significant deterioration (PSD) increments | 3/28/2023 | 12/5/2024, 89 FR 96554
600 | Rules for control of open burning | 3/28/2023 | 12/5/2024, 89 FR 96554
601 | Fire permits, hazardous materials, and liability | 3/28/2023 | 12/5/2024, 89 FR 96554
602 | Nonpreemption of other jurisdiction | 3/28/2023 | 12/5/2024, 89 FR 96554
603 | General requirements | 3/28/2023 | 12/5/2024, 89 FR 96554
606 | Categories of allowable burning | 3/28/2023 | 12/5/2024, 89 FR 96554
607 | Recreational and warming fires | 3/28/2023 | 12/5/2024, 89 FR 96554
608 | Weed control fires | 3/28/2023 | 12/5/2024, 89 FR 96554
609 | Training fires | 3/28/2023 | 12/5/2024, 89 FR 96554
611 | Residential yard waste fires | 3/28/2023 | 12/5/2024, 89 FR 96554
612 | Solid waste facility fires | 3/28/2023 | 12/5/2024, 89 FR 96554
613 | Orchard fires | 3/28/2023 | 12/5/2024, 89 FR 96554
614 | Prescribed fires | 3/28/2023 | 12/5/2024, 89 FR 96554
615 | Dangerous material fires | 3/28/2023 | 12/5/2024, 89 FR 96554
616 | Infectious waste burning | 3/28/2023 | 12/5/2024, 89 FR 96554
617 | Crop residue disposal | 3/28/2023 | 12/5/2024, 89 FR 96554
618 | Permit by rule | 3/28/2023 | 12/5/2024, 89 FR 96554
619 | Registration | 3/28/2023 | 12/5/2024, 89 FR 96554
620 | Burn fee | 3/28/2023 | 12/5/2024, 89 FR 96554
621 | Burn approval | 3/28/2023 | 12/5/2024, 89 FR 96554
622 | General provisions | 3/28/2023 | 12/5/2024, 89 FR 96554
623 | Public notification | 3/28/2023 | 12/5/2024, 89 FR 96554
624 | Spot and baled crop residue burn and propane flaming requirements | 3/28/2023 | 12/5/2024, 89 FR 96554
625 | Visible emissions | 3/28/2023 | 12/5/2024, 89 FR 96554
650 | Rules for control of fugitive dust | 3/28/2023 | 12/5/2024, 89 FR 96554
651 | General rules | 3/28/2023 | 12/5/2024, 89 FR 96554
665 | Regional haze rules | 3/28/2023 | 12/5/2024, 89 FR 96554
666 | Reasonable progress goals | 3/28/2023 | 12/5/2024, 89 FR 96554
667 | Long-term strategy for regional haze | 3/28/2023 | 12/5/2024, 89 FR 96554
675 | Fuel burning equipment—particulate matter | 3/28/2023 | 12/5/2024, 89 FR 96554
676 | Standards for new sources | 3/28/2023 | 12/5/2024, 89 FR 96554
677 | Standards for minor and existing sources | 3/28/2023 | 12/5/2024, 89 FR 96554
678 | Combinations of fuels | 3/28/2023 | 12/5/2024, 89 FR 96554
679 | Averaging period | 3/28/2023 | 12/5/2024, 89 FR 96554
680 | Altitude correction | 3/28/2023 | 12/5/2024, 89 FR 96554
681 | Test methods and procedures | 3/28/2023 | 12/5/2024, 89 FR 96554
700 | Particulate matter—process weight limitations | 3/28/2023 | 12/5/2024, 89 FR 96554
701 | Particulate matter—new equipment process weight limitations | 3/28/2023 | 12/5/2024, 89 FR 96554
702 | Particulate matter—existing equipment process weight limitations | 3/28/2023 | 12/5/2024, 89 FR 96554
703 | Particulate matter—other processes | 3/28/2023 | 12/5/2024, 89 FR 96554
725 | Rules for sulfur content of fuels | 3/28/2023 | 12/5/2024, 89 FR 96554
790 | Rule for the control of nonmetallic mineral processing plants | 3/15/2002 | 8/12/2016, 81 FR 53290
791 | General control requirements | 3/28/2023 | 12/5/2024, 89 FR 96554
793 | Emissions standards for nonmetallic mineral processing plants not subject to 40 CFR part 60, subpart OOO | 3/28/2023 | 12/5/2024, 89 FR 96554
794 | Permit requirements | 3/28/2023 | 12/5/2024, 89 FR 96554 | Except subsection 794.04.
795 | Permit by rule requirements | 3/28/2023
796 | Applicability | 3/28/2023 | 12/5/2024, 89 FR 96554
797 | Registration for permit by rule | 3/28/2023 | 12/5/2024, 89 FR 96554
798 | Electrical generators | 3/28/2023 | 12/5/2024, 89 FR 96554
799 | Nonmetallic mineral processing plan fugitive dust best management practice | 3/15/2002 | 8/12/2016, 81 FR 53290
815 | Rules for control of kraft pulp mills | 3/28/2023 | 12/5/2024, 89 FR 96554
818 | Kraft pulp mill LVHC and HVLC gas venting notification and reporting | 3/28/2023 | 12/5/2024, 89 FR 96554

Table 2 to Paragraph (c)—State Statutes
State citation | Title/subject | State effective date | EPA approval date | Explanations
Section 4 of Senate Bill 1024, codified at Idaho Code section 39-114 | Open Burning of Crop Residue | 2/26/2019 | 12/9/2019, 84 FR 67189
Idaho Code section 39-107(1)(a) | Board—Composition—Officers—Compensation—Powers—Subpoena—Depositions—Review—Rules | 7/1/2022 | 5/26/2023, 88 FR 34093 | To satisfy the requirements of CAA section 128(a)(1) and CAA section 110(a)(2)(E)(ii) for all criteria pollutants.
Idaho Code section 39.103 | Definitions | 7/1/2010 | 12/5/2024, 89 FR 96554 | Except (4), (5), (8), (9), (10), (12), (13), (14), (15), (16), (17), and (18).

Table 3 to Paragraph (c)—City and County Codes and Ordinances
State citation | Title/subject | State effective date | EPA approval date | Explanations
City of Sandpoint Ordinance No. 939 | Material Specifications for Street Sanding Material | 2/22/1994 (City adoption date) | 6/26/2002, 67 FR 43006 | Sandpoint PM10 Nonattainment Area Plan.
City of Sandpoint Chapter 8 Air Quality (4-8-1 through 4-8-14) | Solid Fuel Heating Appliances | 9/21/2011 (City adoption date) | 4/3/2013, 78 FR 20001 | Codified version of City of Sandpoint Ordinance No. 965 as amended by Ordinance No. 1237 and Ordinance No. 1258. Sandpoint PM10 Limited Maintenance Plan.
Boise City Ordinance 4432 | Parking Permits | 8/13/1979 (City approval date) | 6/6/1985, 50 FR 23810 | Transportation Control Plan for carbon monoxide, Ada County.
City of Garden City Ordinance 514, 533, and 624 | Solid Fuel Heating Appliance Ordinance of the City of Garden City, Idaho | 5/14/1987, 1/10/1989, 9/13/1994 (City approval dates) | 5/30/1996, 61 FR 27019 | Northern Ada County PM10 Nonattainment Area Plan.
Meridian Ordinance 667 | Meridian Clean Air Ordinance | 8/16/1994 (City approval date) | 5/30/1996, 61 FR 27019 | Northern Ada County PM10 Nonattainment Area Plan.
City of Eagle Ordinance 245 | City of Eagle Clean Air Ordinance | 4/26/1994 (City approval date) | 5/30/1996, 61 FR 27019 | Northern Ada County PM10 Nonattainment Area Plan.
Ada County Ordinance 254 | Ada County Clean Air Ordinance | 11/3/1992 (County adoption date) | 5/30/1996, 61 FR 27019 | Northern Ada County PM10 Nonattainment Area Plan.
Table: Ordinance-1 | Explanation of enforcement procedures, responsibilities and sources of funding for the Northern Ada County Wood Burning Control Ordinances | 12/30/1994 (date of table) | 5/30/1996, 61 FR 27019 | Northern Ada County PM10 Nonattainment Area Plan.
City of Pocatello Ordinance 2450 | Residential wood combustion curtailment ordinance | 1/12/1994 | 7/13/2006, 71 FR 39574 | Portneuf Valley Nonattainment Area Plan and Maintenance Plan.
City of Pocatello Ordinance 2726 | Revised air quality curtailment levels | 9/18/2003 | 7/13/2006, 71 FR 39574 | Portneuf Valley Nonattainment Area Plan and Maintenance Plan.
City of Chubbuck Ordinance 403 | Residential wood combustion curtailment ordinance | 11/23/1993 | 7/13/2006, 71 FR 39574 | Portneuf Valley Nonattainment Area Plan and Maintenance Plan.
City of Chubbuck Ordinance 582 | Revised air quality curtailment levels | 12/9/2003 | 7/13/2006, 71 FR 39574 | Portneuf Valley Nonattainment Area Plan and Maintenance Plan.
City of Clifton Ordinance No. 120 | Ordinance No. 120 | 8/11/2012 | 3/25/2014, 79 FR 16201 | Except Section 9 (Penalty).
City of Dayton Ordinance #287 | Ordinance #287 | 8/8/2012 | 3/25/2014, 79 FR 16201 | Except Section 9 (Penalty).
Franklin City Ordinance No. 2012-9-12 | Solid Fuel Heating Appliances | 9/12/2012 | 3/25/2014, 79 FR 16201 | Except Section 9 (Penalty).
Franklin County Ordinance No. 2012-6-25 | Solid Fuel Heating Appliances | 6/25/2012 | 3/25/2014, 79 FR 16201 | Except Section 9 (Penalty).
City of Oxford Memorandum of Understanding | Solid Fuel Heating Appliances | 10/22/2012 | 3/25/2014, 79 FR 16201 | Except #2 of the MOA and Section 9 of Exhibit A.
City of Preston Ordinance No. 2012-1 | Ordinance No. 2012-1 | 6/11/2012 | 3/25/2014, 79 FR 16201 | Except Section 9 (Penalty).
City of Weston Ordinance No. 2012-01 | Ordinance No. 2012-01 | 8/1/2012 | 3/25/2014, 79 FR 16201 | Except Section 9 (Penalty).

(d) EPA approved source-specific requirements.

Table 4 to Paragraph (d)—State Source-Specific Requirements ¹
Name of source | Permit No. | State effective date | EPA approval date | Explanation
LP Wood Polymers, Inc., Meridian, Idaho | 001-00115 | 7/12/2002 | 10/27/2003, 68 FR 61106 | The following conditions: 1.1, 1.3, 3.1, and the Appendix. (Boise/Ada County Maintenance Plan).
Consolidated Concrete Company, Boise, Idaho | 001-00046 | 12/3/2001 | 10/27/2003, 68 FR 61106 | The following conditions: 1.1, 1.3, 2.3, 3.1, 3.2, and the Appendix. (Boise/Ada County Maintenance Plan).
Crookham Company, Caldwell, Idaho | 027-00020 | 1/18/2002 | 10/27/2003, 68 FR 61106 | The following conditions: 1.1, 1.3, 2.1, 2.3, 3.1, 3.1.1, 3.1.2, 3.2, and the Appendix. (Boise/Ada County Maintenance Plan).
Double D Service Center, Meridian, Idaho | 001-00168 | 2/4/2002 | 10/27/2003, 68 FR 61106 | The following conditions: 1.1, 1.3, 3.1, 3.2.1, 3.2.2, 3.2.3, and the Appendix. (Boise/Ada County Maintenance Plan).
Plum Creek Northwest Lumber, Inc., Meridian, Idaho | 001-00091 | 7/12/2002 | 10/27/2003, 68 FR 61106 | The following conditions: 1.1, 1.3, 2.1.2, 3.1, and the Appendix. (Boise/Ada County Maintenance Plan).
C. Wright Construction, Inc., Meridian, Idaho | T2-000033 | 7/8/2003 | 10/27/2003, 68 FR 61106 | The following conditions: 2 (heading only), 2.5, (2.12, Table 2.2 as it applies to PM10), 2.14, 3 (heading only), 3.3, Table 3.2, 3.4, 3.5, 3.6, 3.7, 3.8, 3.10, 4 (heading only), 4.2, 4.3, 4.4, 4.7, 5, and Table 5.1. (Boise/Ada County Maintenance Plan).
Nelson Construction Co., Boise, Idaho | T2-020029 | 7/21/2003 | 10/27/2003, 68 FR 61106 | The following conditions: 2 (heading only), 2.12, 2.14, 3 (heading only), 3.3, 3.4, 3.6, 3.7, 3.9, 3.10, 3.11, 3.12, 4 (heading only), 4.3, 4.4, 4.5, 4.6, 5, and Table 5.1. (Boise/Ada County Maintenance Plan).
Mike's Sand and Gravel, Nampa, Idaho | 001-00184 | 7/12/2002 | 10/27/2003, 68 FR 61106 | The following conditions: 1.1, 1.3, 2.2.1, 3.1, and the Appendix. (Boise/Ada County Maintenance Plan).
Idaho Concrete Co., Eagle, Idaho | T2-020031 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co., Eagle, Idaho | T2-020032 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
Idaho Concrete Co. Eagle, Idaho | T2-020033 | 7/8/2003 | 10/27/2003, 68 FR 61106 | The following conditions: 2 (heading only), 2.5, 2.13, 3 (heading only), 3.3, 3.4, 3.6, 3.7, 3.8, 4 (heading only), and Table 4.1. (Boise/Ada County Maintenance Plan).
The Amalgamated Sugar Company LLC, Nampa, Idaho | 027-00010 | 9/30/2002 | 10/27/2003, 68 FR 61106 and 11/1/2004, 69 FR 63324 | The following conditions: 2 (heading only), (2.7, Table 2.2 as it applies to PM10,) 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), 7.3, Table 7.1 as it applies to PM10, 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1 (except as it applies to condition 13.3, 13.3.1, 13.3.2, 13.5, 13.5.1, 13.5.2, 13.5.3, 13.6, 13.6.1, 13.6.2 and 13.9), Table 13.1 (except conditions 13.3, 13.5 and 13.6), (13.2, Table 13.2 as it applies to PM10), 13.2.1, 13.4, 13.4.1, 13.4.2, 13.4.3, 13.7, 13.7.1, 13.7.2, 13.8, 13.8.1, 13.8.2, 13.8.3, 13.10, and 13.11. (Boise/Ada County PM10 Maintenance Plan).
Lake Pre-Mix, Sandpoint, Idaho | 777-00182 | 5/17/1996 | 6/26/2002, 67 FR 43006 | The following conditions for the cement silo vent: 1.1, 2.1.1, 2.1.2, 3.1.1, and 3.1.2. (Sandpoint nonattainment area plan).
Interstate Concrete and Asphalt, Sandpoint, Idaho | 017-00048 | 8/2/1999 | 6/26/2002, 67 FR 43006 | The following conditions: for the asphalt plant, 2.2, 3.1.1, 4.1, 4.1.1, 4.1.2, 4.2.1 (as it applies to the hourly PM10 emission limit in Appendix A), 4.2.2, 4.2.2.1, 4.2.2.2, and 4.2.2.3; for the concrete batch plant, 2.1, 3.1.1, 4.1, 4.1.1, and 4.1.2; Appendix A (as it applies to PM10 emission rates after 7/1/96) and Appendix B (as it applies after 7/1/96). (Sandpoint nonattainment area plan).
Whiteman Lumber Company, Cataldo, ID | 13-1420-062 | 7/16/1979 (date issued) | 7/28/1982, 47 FR 32530 | Silver Valley TSP Nonattainment Area Plan.
Potlatch Corporation, Pulp and Paper Unit, Lewiston, ID | 13-1140-0001-00 | 7/5/1979 (date issued) | 7/28/1982, 47 FR 32530 | Lewiston TSP Nonattainment Area Plan.
Potlatch Corporation, Clearwater Unit, Lewiston, ID | 13-1140-0003 | 7/5/1979 (date issued) | 7/28/1982, 47 FR 32530 | Lewiston TSP Nonattainment Area Plan.
Coast Trading Company, Inc., Lewiston, ID | 13-1140-0011 | 6/29/1979 (date issued) | 7/28/1982, 47 FR 32530 | Lewiston TSP Nonattainment Area Plan.
Lewis-Clark Terminal Association, Lewiston, ID | 13-1140-0010 | 6/29/1979 (date issued) | 7/28/1982, 47 FR 32530 | Lewiston TSP Nonattainment Area Plan.
Poe Asphalt, Lewiston, ID | 0880-0008 | 3/1/1976 (effective date) | 7/28/1982, 47 FR 32530 | Lewiston TSP Nonattainment Area Plan.
FMC Corporation, Pocatello, ID ² | 13-1260-0005 | 2/26/1980 (date issued) | 7/28/1982, 47 FR 32530 | Pocatello TSP Nonattainment Area Plan.
J.R. Simplot, Pocatello, ID | 13-1260-0006-00 | 3/4/1980 (date issued) | 7/28/1982, 47 FR 32530 | Pocatello TSP Nonattainment Area Plan.
Idaho Portland Cement Company, Inkom, ID | 13-0080-0004-00 | 7/18/1979 (date issued) | 7/28/1982, 47 FR 32530 | Pocatello TSP Nonattainment Area Plan.
J.R. Simplot Company, Conda, ID | 13-0420-0021-00 | 7/18/1979 (date issued) | 7/28/1982, 47 FR 32530 | Soda Springs TSP Nonattainment Area Plan.
Beker Industries, Conda, ID | 13-0420-0003-00 | 7/18/1979 (date issued) | 7/28/1982, 47 FR 32530 | Soda Springs TSP Nonattainment Area Plan.
Monsanto, Soda Springs, ID | 13-0420-0001-00 | 7/18/1979 (date issued) | 7/28/1982, 47 FR 32530 | Soda Springs TSP Nonattainment Area Plan.
Kerr McGee, Soda Springs, ID | 13-0420-0002-00 | 7/18/1979 (date issued) | 7/28/1982, 47 FR 32530 | Soda Springs TSP Nonattainment Area Plan.
J.R. Simplot, Pocatello, Idaho | Air Pollution Operating Permit No. T1-9507-114-1; Facility Number No. 077-00006 | 4/5/2004 | 7/13/2006, 71 FR 39574 | The following conditions: Cover page, facility identification information only, #300 Sulfuric Acid Plant, Permit Conditions 16.1, 16.10, 16.11, #400 Sulfuric Acid Plant, Permit Condition 17.1, 17.7, 17.10, 17.11, Phosphoric acid plant, Permit Condition 12.3, 12.13, Granulation No. 3 Process, Permit Condition 9.2.1, Granulation No. 3 stack, 9.17 (except 9.17.1 through 9.17.6), Reclaim Cooling Towers, Permit Condition 14.2, 14.6.1, Babcock & Wilcox Boiler, Permit Condition 6.4, 6.12, HPB&W Boiler, Permit Condition 5.3, 5.13 through 5.18, 5.21.
J.R. Simplot, Pocatello, Idaho | Compliance Agreement & Voluntary Order Idaho Code 39-116A | 4/16/2004 | 7/13/2006, 71 FR 39574 | The following conditions: No. 300 Sulfuric Acid Plant; Condition 8 and 9. No. 400 Sulfuric Acid Plant; Condition 10, 11, and 12. Granulation No. 1 Plant; Condition 14. Granulation No. 2 Plant; Condition 15. Compliance and Performance Testing; Condition 16.
The Amalgamated Sugar Company LLC—Nampa Factory, Nampa, Idaho | T2-2009.0105 | 12/23/2011 (date issued) | 4/28/2014, 79 FR 23273 | The following conditions: 1.2, including the table of Regulated Emission Point Sources Table, 3.2, 3.3 (first paragraph only), 3.4, 3.5, 3.6, 3.7, 3.8, 3.9, 3.11, 3.13, 3.14, 3.15, 3.16, and 4.1.
P4 Production, L.L.C., Soda Springs, Idaho | T2-2009.0109 | 11/17/2009 (date issued) | 6/22/2011, 76 FR 36329 | The following conditions: 1.2 (including Table 1.1), 2.3, 2.4, 2.5, 2.6, 2.7, and 2.8. (Regional Haze SIP Revision).
¹ EPA does not have the authority to remove these source-specific requirements in the absence of a demonstration that their removal would not interfere with attainment or maintenance of the NAAQS, violate any prevention of significant deterioration increment or result in visibility impairment. Idaho Department of Environmental Quality may request removal by submitting such a demonstration to EPA as a SIP revision.
² Only a small portion of this facility is located on State lands. The vast majority of the facility is located in Indian Country. It is EPA's position that unless EPA has explicitly approved a program as applying in Indian country, State or local regulations or permits are not effective within the boundaries of that Indian country land for purposes of complying with the CAA. See 68 FR 2217, 2220 (January 16, 2003).

(e) EPA approved nonregulatory provisions and quasi-regulatory measures.

Table 5 to Paragraph (e)—State Provisions Approved But Not Incorporated by Reference
Name of SIP provision | Applicable geographic or nonattainment area | State submittal date | EPA approval date | Explanations
Appendix A.2—Idaho Environmental Protection and Health Act, Idaho Code Section 39-101 et seq | State-wide | 3/15/2001 | 1/16/2003, 68 FR 2217
Four sections of Appendix A.3—Rules and Regulations for Control of Air Pollution in Idaho—that were approved but not incorporated by reference in section (c) | State-wide | 5/17/1994 | 1/16/2003, 68 FR 2217 | IDAPA 58.01.01.000 (legal authority), 58.01.01.002 (written interpretations), 58.01.01.003 (administrative appeals), and 58.01.01.128 (confidential business information).
Idaho State Board SIP Revision; Idaho Code §§ 59-701 through 705; Ethics in Government Act | State-wide | 9/16/2013 | 10/24/2013, 78 FR 63394 | To satisfy the requirements of CAA section 128(a)(2) and CAA section 110(a)(2)(E)(ii) for all criteria pollutants.
Idaho Department of Environmental Quality letter dated October 18, 2013 supplementing the May 9, 2013 SIP Submittal | State-wide | 10/24/2013 | 3/3/2014, 79 FR 11711
Road Sanding Agreement, Idaho Transportation Department to Idaho Department of Environmental Quality (Voluntary Measure) | Franklin County, Logan UT-ID PM2.5 Nonattainment Area | 12/19/2012 | 3/25/2014, 79 FR 16201 | Fine Particulate Matter Control Measures; Franklin County.
Letter of Intent PM 2.5 Reduction, Franklin County Road Department to Department of Environmental Quality (Voluntary Measure) | Franklin County, Logan UT-ID PM2.5 Nonattainment Area | 12/19/2012 | 3/25/2014, 79 FR 16201 | Fine Particulate Matter Control Measures; Franklin County.

Table 6 to Paragraph (e)—State Attainment, Maintenance, and Other Plans
Name of SIP provision | Applicable geographic or nonattainment area | State submittal date | EPA approval date | Explanations
Chapter I—Introduction | State-wide | 1/15/1980 | 7/28/1982, 47 FR 32530 |
Chapter II—Administration | State-wide | 1/15/1980 | 7/28/1982, 47 FR 32530 |
Chapter III—Emission Inventory | State-wide | 1/15/1980, 2/14/1980 | 7/28/1982, 47 FR 32530 |
Chapter IV—Air Quality Monitoring | State-wide | 1/15/1980 | 7/28/1982, 47 FR 32530 |
Chapter V—Source Surveillance | State-wide | 1/15/1980 | 7/28/1982, 47 FR 32530 |
Chapter VI—Emergency Episode Plan | State-wide | 1/15/1980 | 7/28/1982, 47 FR 32530 |
Chapter VIII—Nonattainment Area Plans
Chapter VIII-a | Silver Valley TSP Nonattainment Area Plan | 1/15/1980 | 7/28/1982, 47 FR 32530 |
Chapter VIII-b | Lewiston TSP Nonattainment Area Plan | 1/15/1980, 12/4/1980, and 2/5/1981 | 7/28/1982, 47 FR 32530 |
Chapter VIII-c | Transportation Control Plan for carbon monoxide, Ada County | 5/24/1984, 1/3/1985, 3/25/1985, and 6/29/1994 | 7/28/1982, 47 FR 32530, 6/6/1985, 50 FR 23810, and 12/1/1994, 59 FR 61546 |
Chapter VIII-d | Pocatello TSP Nonattainment Area Plan | 3/7/1980 and 2/5/1981 | 7/28/1982, 47 FR 32530 |
Chapter VIII-e | Soda Springs TSP Nonattainment Area Plan | 1/15/1980 | 7/28/1982, 47 FR 32530 |
Chapter VIII-f | Pinehurst PM-10 Nonattainment Area Plan | 4/14/1992 | 8/25/1994, 59 FR 43745 |
Chapter VIII-g | Northern Ada County PM10 Nonattainment Area Plan | 11/14/1991, 12/30/1994, and 7/13/1995 | 5/30/1996, 61 FR 27019 |
Chapter VIII-h | Sandpoint PM10 Nonattainment Area Plan | 8/16/1996 | 6/26/2002, 67 FR 43006 |
Chapter VIII-i | Northern Ada County CO Limited Maintenance Plan | 1/17/2002 | 10/28/2002, 67 FR 65713 |
Chapter VIII-j | Ada County/Boise Idaho PM-10 Maintenance Plan | 9/27/2002, 7/10/2003, and 7/21/2003 | 10/27/2003, 68 FR 61106 |
Chapter IX—Reserved
Chapter X—Plan for Maintenance of National Ambient Air Quality Standards for Lead | State-wide | 2/3/1984 | 6/4/1984 (EPA effective date) |
Small Business Assistance Program | State-wide | 1/3/1994 | 9/19/1994, 59 FR 47801 |
Appendix A—Legal Authority and Other Administrative Matters | State-wide | 1/15/1980 | 7/28/1982, 47 FR 32530 |
Northern Ada County Air Quality Maintenance Area Second 10-year Carbon Monoxide Limited Maintenance Plan | Northern Ada County | 2/10/2011 | 8/2/2012, 77 FR 45962 |
Northern Ada County Carbon Monoxide Limited Maintenance Plan Revision | Northern Ada County | 12/29/2022 | 6/15/2023, 88 FR 39179 | Removal of I/M program.
Northern Ada County PM10 Second Ten-Year Maintenance Plan | Northern Ada County | 3/11/2013 | 10/2/2014, 79 FR 59435 |
Portneuf Valley PM10 Nonattainment Area Plan and Maintenance Plan | Portneuf Valley | 7/13/2006 | 71 FR 39574 |
Portneuf Valley PM10 Maintenance Plan—Revision | Portneuf Valley | 4/21/2014 | 7/17/2014, 79 FR 41647 |
Pinehurst PM10 Contingency Measures | Pinehurst/Shoshone County | 7/13/1995 | 10/2/2014, 79 FR 59435 |
Pinehurst PM10 Limited Maintenance Plan | Shoshone County; Pinehurst Expansion Area and City of Pinehurst | 9/29/2017 | 9/11/2018, 83 FR 45830 |
Sandpoint PM10 Nonattainment Area Limited Maintenance Plan | Bonner County: Sandpoint Area | 12/14/2011 | 4/3/2013, 78 FR 20001 |
Fine Particulate Matter Baseline Emissions Inventory | Franklin County, Logan UT-ID PM2.5 Nonattainment Area | 12/19/2012 | 7/18/2014, 79 FR 41904 | Fine Particulate Matter; Franklin County.
Cache Valley Fine Particulate Matter Attainment Plan | Franklin County, Logan UT-ID PM2.5 Nonattainment Area | 12/19/2012, 12/24/2014, 7/31/2018 | 1/4/2017, 82 FR 729; 8/8/2017, 82 FR 37025; 2/20/2020, 85 FR 9664 |
Cache Valley Fine Particulate Matter Maintenance Plan | Franklin County, Logan UT-ID PM2.5 Area | 9/13/2019 | 5/21/2021, 86 FR 27532 |
West Silver Valley PM2.5 Maintenance Plan | West Silver Valley, ID | 6/2/2020 | 11/16/2021, 86 FR 63315 |
Open Burning of Crop Residue State Implementation Plan Revision | State-wide | 5/28/2008 | 8/1/2008, 73 FR 44915 |
Open Burning of Crop Residue State Implementation Plan Revision | State-wide | 9/22/2017, 10/23/2017 | 6/19/2018, 83 FR 28382 | Original submission and supplemental modeling analyses.
Interstate Transport State Implementation Plan, May 11, 2010 (see comments) | State-wide | 6/28/2010 | 11/26/2010, 75 FR 72705 | For the 1997 8-hour ozone NAAQS and the 1997 PM2.5 NAAQS. See docket EPA-R10-OAR-2010-0669.
Section 110(a)(2) Infrastructure Requirements for the 1997 8-hour Ozone NAAQS | State-wide | 9/15/2008, 6/24/2010 | 7/17/2012, 77 FR 41916 | This action addresses following CAA elements or portions thereof: 110(a)(2)(A), (B), (C), (D)(ii), (E)(i), (E)(iii), (F), (G), (H), (J), (K), (L), and (M).
Section 110(a)(2) Infrastructure Requirements for the 2008 Pb NAAQS | State-wide | 2/14/2012 | 5/22/2014, 79 FR 29358 | This action addresses the following CAA elements: 110(a)(2)(A), (B), (C), (D), (E), (F), (G), (H), (J), (K), (L), and (M).
Section 110(a)(2) Infrastructure Requirements for the 1997 PM2.5 NAAQS | State-wide | 9/15/2008; 6/28/2010 | 7/14/2014, 79 FR 40662 | This action addresses the following CAA elements or portions thereof: 110(a)(2)(A), (B), (C), (D)(ii), (E), (F), (G), (H), (J), (K), (L), and (M).
Section 110(a)(2) Infrastructure Requirements for the 2006 PM2.5 NAAQS | State-wide | 6/28/2010; 8/10/2011 | 7/14/2014, 79 FR 40662 | This action addresses the following CAA elements or portions thereof: 110(a)(2)(A), (B), (C), (D)(i)(II), (D)(ii), (E), (F), (G), (H), (J), (K), (L), and (M).
Section 110(a)(2) Infrastructure Requirements for the 2008 Ozone NAAQS | State-wide | 6/28/2010 | 7/14/2014, 79 FR 40662 | This action addresses the following CAA elements or portions thereof: 110(a)(2)(A), (B), (C), (D)(i)(II), (D)(ii), (E), (F), (G), (H), (J), (K), (L), and (M).
Section 110(a)(2) Infrastructure Requirements for the 2010 NO2 NAAQS | State-wide | 9/16/2013 | 8/11/2014, 79 FR 46708 | This action addresses the following CAA elements or portions thereof: 110(a)(2)(A), (B), (C), (D)(i)(II), (D)(ii), (E), (F), (G), (H), (J), (K), (L), and (M).
Section 110(a)(2) Infrastructure Requirements for the 2010 SO2 NAAQS | State-wide | 9/16/2013 | 8/11/2014, 79 FR 46708 | This action addresses the following CAA elements or portions thereof: 110(a)(2)(A), (B), (C), (D)(i)(II), (D)(ii), (E), (F), (G), (H), (J), (K), (L), and (M).
Interstate Transport Requirements for the 2006 24-hour PM2.5 NAAQS | State-wide | 6/28/2010 | 4/17/2015, 80 FR 21181 | This action addresses the following CAA elements: 110(a)(2)(D)(i)(I).
Interstate Transport Requirements for the 2008 Ozone NAAQS | State-wide | 6/28/2010 | 12/18/2015, 80 FR 78981 | This action addresses the following CAA elements: 110(a)(2)(D)(i)(I).
Interstate Transport Requirements for the 2010 NO2 NAAQS | State-wide | 12/24/2015 | 5/5/2016, 81 FR 27017 | This action addresses the following CAA elements: 110(a)(2)(D)(i)(I).
Section 110(a)(2) Infrastructure Requirements—2012 PM2.5 NAAQS | State-wide | 12/23/2015 | 12/4/2017, 82 FR 57132 | Approves SIP for purposes of CAA sections 110(a)(2)(A), (B), (C), (D)(i)(II), (D)(ii), (E), (F), (G), (H), (J), (K), (L), and (M) for the 2012 PM2.5 NAAQS.
Interstate Transport Requirements for the 2012 PM2.5 NAAQS | State-wide | 12/23/2015 | 9/24/2018, 83 FR 48240 | This action addresses CAA 110(a)(2)(D)(i)(I).
Section 110(a)(2) Infrastructure Requirements—2015 ozone NAAQS | State-wide | 9/27/2018 | 9/16/2020, 85 FR 57723 | Approves SIP for purposes of CAA sections 110(a)(2)(A), (B), (C), (D)(i)(II), (D)(ii), (E), (F), (G), (H), (J), (K), (L), and (M) for the 2015 ozone NAAQS.
Interstate Transport Requirements for the 2015 Ozone NAAQS | State-wide | 9/26/2018 | 10/16/2020, 85 FR 65722 | This action addresses CAA 110(a)(2)(D)(i)(I).
Interstate Transport Requirements for the 2010 Sulfur Dioxide NAAQS | State-wide | 12/24/2015 | 4/9/2021, 86 FR 18457 | This action addresses CAA 110(a)(2)(D)(i)(I).
Regional Haze SIP Revision | State-wide | 10/25/2010 | 6/22/2011, 76 FR 36329 | The portion of the Regional Haze SIP revision relating to BART, the calculation of baseline and natural conditions, and the statewide inventory of emissions of pollutants that are reasonably anticipated to cause or contribute to visibility impairment in any mandatory Class I Federal Area.
Regional Haze SIP Revision | State-wide | 10/25/2010 | 11/8/2012, 77 FR 66929 | The portion of the Regional Haze SIP relating to the reasonable progress goals, long term strategy, monitoring strategy, consultation with states and Federal Land Managers, periodic SIP revisions, and 5-year progress reports.
Regional Haze SIP Revision | State-wide | 6/29/2012 | 4/28/2014, 79 FR 23273 | The portion of the Regional Haze SIP relating to BART for the TASCO, Nampa facility.
Regional Haze 5-Year Progress Report | State-wide | 6/28/2016 | 7/15/2019, 84 FR 33697 |

[FR Doc. 2025-11824 Filed 6-26-25; 8:45 am]

BILLING CODE 6560-50-P